DEPARTMENT OF ENERGY

Federal Energy Regulatory Commission

[Project No. 14308-001]

Carbon Zero, LLC.; Notice of Application Tendered for Filing With the Commission, Intent To Waive Solicitation of Additional Study Requests, and Intent To Approve of the Use of the Traditonal Licensing Process

Take notice that the following hydroelectric application has been filed with the Commission and is available for public inspection.

a. Type of Application: Original Minor License.

b. Project No.: 14308-001.

c. Date filed: February 17, 2012.

d. Applicant: Carbon Zero, LLC.

e. Name of Project: Vermont Tissue Mill Hydroelectric Project.

f. Location: On the Walloomsac River, in the Town of Bennington, Bennington County, Vermont. The project would not occupy lands of the United States.

g. Filed Pursuant to: Federal Power Act, 16 U.S.C. 791(a)-825(r).

h. Applicant Contact: William F. Scully, Carbon Zero, LLC., P.O. Box 338, North Bennington, VT 05257; (802) 442-0311; wfscully@gmail.com.

i. FERC Contact: Amy K. Chang, (202) 502-2850, or email at amy.chang@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. The Commission previously solicited additional study requests on November 7, 2011. No studies were requested; therefore, the Commission is providing notice that it intends to waive solicitation of additional study requests on the application filed on February 17, 2012.

l. Deadline for filing comments on the use of the Traditional Licensing Process and requests for cooperating agency status: 30 days from the issuance of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

m. This application is not ready for environmental analysis at this time.

n. Project Description: Vermont Tissue Mill Hydroelectric Project would consist of two existing dams separated by a 400-foot-wide island and include: (1) An existing 15-foot-high, 85-foot-long primary dam with a spillway crest elevation of 555.0 feet above mean sea level (msl) topped with reinstalled 4-inch-high flashboards; (2) an existing 6-foot-high, 80-foot-long emergency spillway dam with a crest elevation of 555.5 feet above msl and a proposed 2.5-foot-high, 2.5-foot-wide minimum flow weir equipped with stop logs; (3) an existing 6-foot-high, 8-foot-wide flood gate located on the south abutment of the primary dam; (4) an existing 2,400-foot-long, 6.4-acre impoundment with a normal water surface elevation of 550 feet above msl; (5) an existing intake structure equipped with two 12-foot-high, 16-foot-wide flume openings equipped with stop log slots and new trashracks connected to two water conveyance channels, one 12-foot-high, 35-foot-long and one 12-foot-high, 85-foot-long; (6) an existing powerhouse with two new Kaplan turbine generating units with a total installed capacity of 360 kilowatts; (7) a new 1.5-foot-diameter valve in the powerhouse that would discharge flows to the tailrace; and (8) a new buried 480-volt, 125-foot-long transmission line connecting the powerhouse to the regional grid. In addition to installing the new turbine generating units and new transmission line listed above, the applicant proposes to renovate and repair the trashracks and tailrace retaining wall, and excavate a new tailrace downstream of the primary dam. The project would be operated in a run-of-river mode and would generate an annual average of approximately 1,454 megawatt-hours.

o. Carbon Zero, LLC prepared an application for an exemption from licensing, which it subsequently revised and refiled on February 17, 2012, as an application for an original minor license with a request to use the Traditional Licensing Process (TLP). Based on the contents of the exemption and license applications, the TLP three-stage consultation process has been completed; therefore, the Commission is providing notice that it intends to approve Carbon Zero's request to use the TLP.

p. A copy of the application is available for review at the Commission in the Public Reference Room or may be viewed on the Commission's Web site at http://www.ferc.gov using the “eLibrary” link. Enter the docket number excluding the last three digits in the docket number field to access the document. For assistance, contact FERC Online Support at FERCONlineSupport@ferc.gov.

Register online at http://www.ferc.gov/docs-filing/esubscription.asp to be notified via email of new filings and issuances related to this or other pending projects. For assistance, contact FERC Online Support.

q. With this notice, we are initiating consultation with the Vermont State Historic Preservation Officer (SHPO), as required by 106, National Historic Preservation Act, and the regulations of the Advisory Council on Historic Preservation, 36, CFR, at 800.4.

r. Procedural schedule: The application will be processed according to the following Hydro Licensing Schedule. Revisions to the schedule will be made as appropriate.

Milestone | Target date
Issue Notice of Acceptance | April 2012.
Issue Notice of Ready for Environmental Analysis | May 2012.
Notice of the availability of the EA | Nov. 2012.

Dated: March 2, 2012.
Kimberly D. Bose,
Secretary.

[FR Doc. 2012-5614 Filed 3-7-12; 8:45 am]

BILLING CODE 6717-01-P